FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than April 7, 2000.

A. Federal Reserve Bank of Chicago (Phillip Jackson, Applications Officer) 230 South LaSalle Street, Chicago, Illinois 60690-1414:

1. First Business Bancshares, Inc., Madison, Wisconsin; to acquire 51 percent of the voting shares of The Business Banc Group, Ltd. (in formation), Brookfield, Wisconsin, and thereby indirectly acquire First Business Bank-Milwaukee, Brookfield, Wisconsin.

In connection with this application, The Business Banc Group, Ltd., Brookfield, Wisconsin, also has applied to become a bank holding company.

B. Federal Reserve Bank of Philadelphia (Michael E. Collins, Senior Vice President) 100 North 6th Street, Philadelphia, Pennsylvania 19105-1521:

1. National Penn Bancshares, Inc., Boyertown, Pennsylvania; to acquire indirectly through its wholly owned subsidiary, NPB New Jersey, Inc., Morristown, New Jersey, 100 percent of the voting shares of Panasia Bank, Fort Lee, New Jersey. In connection with this application, NPB New Jersey, Inc., has applied to become a bank holding company.

C. Federal Reserve Bank of Kansas City (D. Michael Manies, Assistant Vice President) 925 Grand Avenue, Kansas City, Missouri 64198-0001:

1. NBM Corp Employee Stock Ownership Plan, McAlester, Oklahoma; to become a bank holding company by acquiring 30.48 percent of the voting shares of NBM Corp, McAlester, Oklahoma, and thereby indirectly acquire Bank N.A., McAlester, Oklahoma.

Board of Governors of the Federal Reserve System, March 9, 2000.
Robert deV. Frierson,
Associate Secretary of the Board.

[FR Doc. 00-6300 Filed 3-15-00; 8:45 am]

BILLING CODE 6210-01-P